DEPARTMENT OF ENERGY

National Coal Council Meeting

AGENCY: Department of Energy.

ACTION: Notice.

SUMMARY: This notice announces a virtual meeting via WebEx of the National Coal Council (NCC). The Federal Advisory Committee Act (92, 86 Stat. 770) requires that public notice of these meetings be announced in the Federal Register.

DATES: Tuesday, August 30, 2016 at 2:00 p.m.

ADDRESSES: If you wish to join the meeting you must register on-line by close of business on August 26, 2016, at the following URL: https://goo.gl/forms/dQnwFBvzl7JcqWLX2.

FOR FURTHER INFORMATION CONTACT: Mr. Daniel Matuszak, U.S. Department of Energy, 4G-036/Forrestal Building, 1000 Independence Avenue SW., Washington, DC 20585-0001; Telephone: 202-586-6915.

SUPPLEMENTARY INFORMATION:

Purpose of the Council: The National Coal Council provides advice and recommendations to the Secretary of Energy, on general policy matters relating to coal and the coal industry.

Purpose of Meeting: The National Coal Council (the Council) will hold a virtual meeting via webcast at 2:00 p.m. Eastern Time on August 30, 2016 for the sole purpose of receiving the report “CO2 Building Blocks: Assessing CO2 Utilization Options” from the Coal Policy Committee. The Council membership will be asked to accept the report and forward it to the U.S. Secretary of Energy.

The draft white paper will be available on the National Coal Council Web site on August 25, 2016, at the following URL: http://www.nationalcoalcouncil.org/Documents/CO2-Building-Blocks-2016.pdf.

If you wish to join the meeting you must register on-line by close of business on August 26, 2016, at the following URL: https://goo.gl/forms/dQnwFBvzl7JcqWLX2.

The email address you provide in the on-line registration form will be used to forward instructions on how to join the meeting using WebEx. WebEx requires a computer, web browser and an installed application (free). Instructions for joining the webcast will be sent to you two days in advance of the meeting.

Tentative Agenda

1. Call to order

2. Report of the Coal Policy Committee

3. Motion on the fate of the report

4. Adjourn

Public Participation: The virtual meeting is open to the public. If you would like to file a written statement with the Council, you may do so either before or within 5 days after the meeting.

Minutes: A link to the audio/video recording of the meeting will be posted within 30-days on the NCC Web site at: http://www.nationalcoalcouncil.org/.

Issued at Washington, DC, on August 2, 2016.
LaTanya R. Butler,
Deputy Committee Management Officer.

[FR Doc. 2016-18725 Filed 8-5-16; 8:45 am]

BILLING CODE 6450-01-P